DEPARTMENT OF DEFENSE

Department of the Army

Final Environmental Impact Statement (FEIS) for the 2d Armored Cavalry Regiment (ACR) Transformation and Installation Mission Support, Joint Readiness Training Center (JRTC) and Fort Polk, LA, and Long-Term Military Training Use of Kisatchie National Forest Lands

AGENCY: Department of the Army, DoD.

ACTION: Notice of availability.

SUMMARY: The Department of the Army, the USDA Forest Service, and the DOT Federal Aviation Administration (FAA) announce the availability of the FEIS for the 2d ACR Transformation and Installation Mission Support, Joint Readiness Training Center (JRTC) and Fort Polk, Louisiana, and Long-Term Military Training Use of Kisatchie National Forest Lands. The FEIS evaluates environmental impacts associated with the Army's proposal for implementing force transformation and mission capability enhancements at the installation and at England Industrial Airpark, along with long-term military training use of Kisatchie National Forest lands. The Army's proposed action involves fielding of new vehicles and equipment; construction and improvement of firing ranges, roads, stream crossings, and support facilities; land use agreements and leases; training and deployment of Army troops; and continued environmental stewardship. In addition, the FEIS considers a Forest Service proposal to thin approximately 21,500 acres of upland pine stands on the Vernon Unit, Calcasieu Ranger District of the Kisatchie National Forest to improve habitat conditions for the endangered red-cocked woodpecker. The FAA proposes to approve an amendment of the Alexandria International Airport Layout Plan as influenced by proposed Army projects and activities at England Industrial Airpark.

DATES: The waiting period will end 30 days after publication of the NOA in the Federal Register by the U.S. Environmental Protection Agency.

ADDRESSES: Written comments or requests for copies of the FEIS may be submitted to: Dan Nance, Fort Polk Public Affairs Office, 7073 Radio Road, Fort Polk, LA 71459-5342; phone: (337) 531-7203; fax: (337) 6014; e-mail: eis@polk.army.mil.

FOR FURTHER INFORMATION CONTACT: Questions about the FEIS may be directed to Ms. Stacy Basham-Wagner, Joint Agency Liaison, Attention: AFZX-PW-E (Basham-Wagner), 1799 23rd Street, Fort Polk, LA 71459; telephone (337) 531-7458, fax: (337) 531-2627. For further information on the Forest Service's Record of Decision, contact Ms. Cynthia A. Dancak, 2500 Shreveport Highway, Pineville, LA 71360; phone (318) 473-7160.

SUPPLEMENTARY INFORMATION: In support of Army initiatives to meet evolving security requirements, the Army has designated the 2d ACR to transform to the 2d Cavalry Regiment, a medium-weight force equipped with Stryker vehicles that will be strategically responsive and more rapidly deployable by air. In addition to transformation of the 2d ACR, units stationed at other Army installations would participate in exercises at the JRTC and Fort Polk on a rotational basis. To these ends, the Army proposes to implement force transformation and installation mission support activities at the JRTC and Fort Polk with respect to home station training (maneuver and gunnery exercises for Army units assigned to Fort Polk), rotational unit exercises, and facilities construction. The Army also proposes renewal of a Special Use Permit agreement with the Forest Service for continued use of Kisatchie National Forest lands to suport military training. The areas of the Kisatchie National Forest proposed for Army use are known as the Intensive Use Area and Limited Use Area of the Vernon Unit, Calcasieu Ranger District and the Special Limited Use Area (also known as Horse's Head) of the Kisatchie Ranger District.

Proposals for installation mission support involve 20 construction projects that would occur on Army lands, national forest lands, and at England Industrial Airpark in Alexandria, Louisiana. The projects include 13 facilities in the Fort Polk cantonment area, digitization and expansion of the Multi-Purpose Ranger Complex on Fort Polk's main post, road construction/improvements and construction of a sniper range in the Intensive Use Area, construction of 20 stream crossings in the Limited Use Area, construction of 20 stream crossings in the Limited Use Area, and 3 deployment support facilities at England Industrial Airpark. The JRTC and Fort Polk also propose to create additional helicopter training areas and to conduct limited types of non-live fire training on private lands.

The Army is the lead agency in preparing the FEIS, and the Forest Service and FAA are cooperating agencies. The decision to be made by the Army, based on the results of the EIS and upon consideration of all relevant factors (including mission, cost, technical factors, and environmental considerations) is how to provide for military training, readiness, and facilities requirements while ensuring the sustained use of resources entrusted to the stewardship of the Army. The Federal Aviation Administration (FAA) intends to rely on analyses in this EIS to make decisions concerning the Alexandria International Airport Layout Plan as it may be affected by three Army projects proposed to occur at the airport and consequent movement of aircraft, materiel, and personnel through that facility.

Based on the FEIS, the Forest Service has decided to authorize certain Army activities and land uses on Kisatchie National Forest lands and to thin, over a 10-year period, approximately 21,500 acres of upland pine stands in the Intensive Use Area to enhance habitat conditions for the endangered red-cockaded woodpecker. The Forest Service (in coordination with the U.S. Fish and Wildlife Service) has also decided to classify as “deleted” red-cockaded woodpecker clusters documented to have been inactive for a five-year period.

The FEIS identifies eight alternatives, two of which are analyzed in detail: (1) The proposed action, summarized above, and (2) a no action alternative. The FEIS also includes a mitigation and monitoring plan developed by the Army and Forest Service to rectify, reduce, or eliminate adverse effects to land cover, soils, water quality, and biological resources.

The Forest Service's decision is subject to appeal pursuant to 36 CFR 215.11. A written appeal, including attachments, must be postmarked or received within 45 days after the date of the legal notice of the decision is published in the Alexandria Daily Town Talk. The Appeal shall be sent to USDA, Forest Service, ATTN: Appeals Deciding Officer, 1720 Peachtree Rd., NW., Suite 811N, Atlanta, Georgia 30309-9102, within 45 days of the date of the legal notice. Appeals may be faxed to (404) 347-5401. Hand-delivered appeals must be received within normal business hours of 8 a.m. to 4:30 p.m. Appeals may also be mailed electronically in a common digital format to appeals-southern-regional-office@fs.fed.us. Appeals must meet the content requirements of 36 CFR 215.14. If no appeal is received, implementation of the decision may occur on, but not before, five business days from the close of the appeal filing period. If an appeal is received, implementation may not occur for 15 business days following the date of appeal disposition (36 CFR 215.9).

Copies of the FEIS and Forest Service Record of Decision are available for review at the following libraries: Allen Parish Library (Oberlin Branch), 320 S. Sixth Street, Oberlin; Beauregard Parish Library, 205 South Washington Avenue, DeRidder; Calcasieu Public Library, 301 W. Claude Street, Lake Charles; East Baton Rouge Parish Library, 7711 Goodwood Boulevard, Baton Rouge; Lafayette Public Library, 301 W. Congress Street, Lafayette; Lincoln Parish Library, 509 West Alabama Avenue, Ruston; Natchitoches Parish Library, 431 Jefferson Street, Natchitoches; New Orleans Public Library (Orleans Parish), 219 Loyola Avenue, New Orleans; New Orleans Public Library (Algiers Point Branch), 725 Pelican Avenue, New Orleans; Ouachita Parish Library, 1800 Stubbs Avenue, Monroe; Rapides Parish Library, 411 Washington Street, Alexandria; Vernon Parish Library, 1401 Nolan Trace, Leesville; Sabine Parish Library, 705 Main Street, Many; and Shreve Memorial Library (Caddo Parish), 424 Texas Street (71101), Shreveport. The FEIS, as well as additional information concerning the EIS process, may be reviewed at http://notes.tetratech-ffx.com/PolkEIS.nsf.

Dated: March 9, 2004.
Raymond J. Fatz,
Deputy Assistant Secretary of the Army (Environment, Safety and Occupational Health) OASA(I&E).

[FR Doc. 04-5853 Filed 3-15-04; 8:45 am]

BILLING CODE 3710-08-M